DEPARTMENT OF ENERGY

Federal Energy Regulatory Commission

[Project No. 14468-000]

Las Vegas Wash Hydro LLC; Notice of Preliminary Permit Application Accepted for Filing and Soliciting Comments, Motions To Intervene, and Competing Applications

On November 16, 2012, Las Vegas Wash Hydro LLC, filed an application for a preliminary permit, pursuant to section 4(f) of the Federal Power Act (FPA), proposing to study the feasibility of the Las Vegas Wash Hydroelectric Project (project) to be located on the Las Vegas Wash, in Clark County, Nevada. The sole purpose of a preliminary permit, if issued, is to grant the permit holder priority to file a license application during the permit term. A preliminary permit does not authorize the permit holder to perform any land-disturbing activities or otherwise enter upon lands or waters owned by others without the owners' express permission.

The proposed project would consist of an existing concrete diversion/inlet structure for the Las Vegas Wash that passes beneath Lake Las Vegas via two 84-inch-diameter penstocks for a distance of 10,208 feet. Las Vegas Wash Hydro LLC proposes to tie into the existing penstocks and construct a new powerhouse. One of the two existing 84-inch diameter penstocks would be utilized for bypass flows. The powerhouse would be equipped with a single 2.1-megawatt Francis turbine. The project would also consist of a switchyard and 900 feet of proposed 15-kilovolt transmission line that would interconnect into the utility distribution system owned by NV Energy. The project would generate an estimated 16.5 gigawatt-hours annually.

Applicant Contact: Mr. Ted S. Sorenson, P.E., Sorenson Engineering, 5203 S. 11th East, Idaho Falls, Idaho 83404; phone: (208) 522-8069.

FERC Contact: Mary Greene; phone: (202) 502-8865.

Deadline for filing comments, motions to intervene, competing applications (without notices of intent), or notices of intent to file competing applications: 60 days from the issuance of this notice. Competing applications and notices of intent must meet the requirements of 18 CFR § 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14468) in the docket number field to access the document. For assistance, contact FERC Online Support.

Dated: May 23, 2013.
Kimberly D. Bose,
Secretary.

[FR Doc. 2013-12890 Filed 5-30-13; 8:45 am]

BILLING CODE 6717-01-P